DEPARTMENT OF ENERGY

Federal Energy Regulatory Commission

[Docket No. CP03-36-000]

Questar Pipeline Company; Notice of Request Under Blanket Authorization

January 16, 2003.

Take notice that on December 31, 2002, Questar Pipeline Company (Questar), 180 East 100 South, Salt Lake City, Utah 84145, filed in Docket No. CP03-36-000 a request pursuant to sections 157.205 and 157.208 of the Federal Energy Regulatory Commission's regulations (18 CFR 157.205 and 157.208) under the Natural Gas Act (NGA) for authorization to construct and operate a 15.81-mile, 24-inch diameter interconnect, known as Tie Line (TL) 112, between the interstate pipeline systems of Questar and Overthrust Pipeline Company (Overthrust), under Questar's blanket certificate issued in Docket No. CP82-491-000, pursuant to section 7 of the NGA, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Questar states that the proposed TL 112 will extend from an interconnection with Overthrust's 36-inch diameter main line at Uinta County, Wyoming to Questar's Main Line (ML) 48 in Rich County, Utah. Questar states that at the eastern terminus of the interconnect, located in Whitney Canyon, Uinta County, Wyoming, Questar proposes to install a custody-transfer measurement station. Questar further states that at the western terminus of the interconnect in Rich County, Utah, Questar proposes to install various valves, piping and pipeline cleaning facilities. In addition, Questar states that TL 112 will be tested to a maximum allowable operating pressure of 1,050 psig and will be constructed at a total estimated cost of $14,600,000.

Questar explains that the proposed project is in the public interest because it is required to support growing residential, commercial and industrial demand for natural gas along Questar's principal end-use market in northern Utah served by its local distribution company affiliate, Questar Gas Company (QGC). Questar states that since TL 112 will be constructed for the purpose of receiving additional gas supplies into Questar's existing system for ultimate delivery to the Salt Lake City metropolitan area and to interconnect the systems of two open-access transporters, the proposed interconnect will be installed as an eligible facility as defined in section 157.202 of the Commission's regulations. Questar further states that QGC has entered into a 10-year firm contract for the transportation of up to 52,000 dekatherms per day from three receipt points on Questar's northern system to the Wasatch Front via TL 112.

Any questions concerning this request may be directed to Lenard G. Wright, Director of Federal Regulation, Questar Pipeline Company, 180 East 100 South, Salt Lake City, Utah 84111 at (801) 324-2459 or lenardw@questar.com.

Any person or the Commission's staff may, within 45 days after issuance of the instant notice by the Commission, file with the Federal Energy Regulatory Commission, 888 First Street, NE., Washington, DC 20426, pursuant to rule 214 of the Commission's procedural rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Protests and interventions may be filed electronically via the Internet in lieu of paper, see 18 CFR 385.2001 (a)(1)(iii) and the instructions on the Commission's Web site under the “e-Filing” link. The Commission strongly encourages electronic filings.

Comment Date: March 3, 2003.

Magalie R. Salas,
Secretary.

[FR Doc. 03-1496 Filed 1-22-03; 8:45 am]

BILLING CODE 6717-01-P